ELECTION ASSISTANCE COMMISSION

Sunshine Act Meetings

AGENCY: U.S. Election Assistance Commission.

ACTION: Sunshine Act notice; notice of public meeting agenda.

SUMMARY: Public Meeting: U.S. Election Assistance Commission Board of Advisors Annual Meeting.

DATES: Monday, May 16, 2022, 1:00 p.m.-4:00 p.m. Eastern.

ADDRESSES: Virtual via Zoom.

The meeting is open to the public and will be livestreamed on the U.S. Election Assistance Commission YouTube Channel: https://www.youtube.com/channel/UCpN6i0g2rlF4ITWhwvBwwZw.

SUPPLEMENTARY INFORMATION:

Purpose: In accordance with the Government in the Sunshine Act (Sunshine Act), Public Law 94-409, as amended (5 U.S.C. 552b), the U.S. Election Assistance Commission (EAC) will conduct a virtual annual meeting of the Board of Advisors to discuss EAC updates and upcoming programs, and discuss the implementation of the Voluntary Voting System Guidelines (VVSG) 2.0 and electronic poll book pilot program next steps, as well as threats against election officials.

Agenda: The U.S. Election Assistance Commission (EAC) Board of Advisors will hold their 2022 Annual Meeting primarily to discuss next steps regarding the VVSG 2.0 and implementation, the status of the EAC's e-poll book pilot program, and threats against election officials. This meeting will include a question-and-answer discussion between board members and EAC staff.

Board members will also review FACA Board membership guidelines and policies with EAC Acting General Counsel and receive a general update about the EAC programming. The Board will also elect three members to the Executive Board Committee and consider proposed changes to the bylaws.

Background: On February 10, 2021 the U.S. Election Assistance Commission (EAC) announced the adoption of the Voluntary Voting System Guidelines (VVSG) 2.0; the VVSG 2.0 is the fifth iteration of national level voting system standards. On April 5, 2022, the EAC adopted the VVSG Lifecycle Policy as part of the implementation process.

The Federal Election Commission published the first two sets of federal standards in 1990 and 2002. The EAC then adopted Version 1.0 of the VVSG on December 13, 2005. In an effort to update and improve version 1.0 of the VVSG, on March 31, 2015, the EAC commissioners unanimously approved VVSG 1.1.

The full agenda will be posted in advance on the EAC website: https://www.eac.gov.

STATUS: This meeting will be open to the public.

FOR FURTHER INFORMATION CONTACT: Kristen Muthig, Telephone: (202) 897-9285, Email: kmuthig@eac.gov.

Camden Kelliher,
Associate Counsel, U.S. Election Assistance Commission.

[FR Doc. 2022-09253 Filed 4-26-22; 4:15 pm]

BILLING CODE P